NUCLEAR REGULATORY COMMISSION

[Docket Nos.: 52-034 and 52-035; NRC-2008-0594]

Luminant Generation Company, LLC., Combined License Application for Comanche Peak Nuclear Power Plant, Units 3 and 4, Environmental Assessment and Finding of No Significant Impact

The U.S. Nuclear Regulatory Commission (NRC) is considering issuance of an exemption from Section 50.71(e)(3)(iii) of Title 10 of the Code of Federal Regulations (10 CFR), for the Comanche Peak Nuclear Power Plant (CPNPP), Units 3 and 4, Combined License (COL) Application, Docket Numbers 52-034 and 52-035, submitted by Luminant Generation Company, LLC. (Luminant) for the proposed facility to be located in Somervell County, Texas. In accordance with 10 CFR 51.21, the NRC is issuing this environmental assessment and finding of no significant impact.

Environmental Assessment—Identification of the Proposed Action

The proposed action is a one-time schedule exemption from the requirements of 10 CFR 50.71(e)(3)(iii). During the period from the docketing of a COL application until the NRC makes a finding under 10 CFR 52.103(g) pertaining to facility operation, Luminant must, pursuant to 10 CFR 50.71(e)(3)(iii), submit an annual update to the Final Safety Analysis Report (FSAR). The proposed exemption would allow Luminant to submit its COL application FSAR update, scheduled for June 2013, on or before November 30, 2013, and to submit the subsequent FSAR annual update in November 2014. The current FSAR update schedule could not be changed, absent the exemption. The NRC is authorized to grant the exemption pursuant to 10 CFR 50.12.

The proposed action is in accordance with Luminant's request dated January 28, 2013, and can be found in the Agencywide Documents Access and Management System (ADAMS) under Accession No. ML13031A041.

Need for the Proposed Action

Since the CPNPP, Units 3 and 4, COL application references the US-APWR DCD, the proposed action is needed in order to provide Luminant sufficient time to fully incorporate into the COL application (COLA) FSAR, Revision 4 of the United States—Advanced Pressurized Water Reactor (US-APWR) Design Control Document (DCD), which Mitsubishi Heavy Industries Ltd. plans to submit to the NRC on or before August 31, 2013. Luminant has requested a one-time exemption from the requirements specified in 10 CFR 50.71(e)(3)(iii) in order to reduce the burden associated with identifying all committed changes that were made to the DCD, since Revision 3 to the US-APWR DCD.

The only alternative would be not issuing the exemption. Because this alternative would require Luminant to issue COLA FSAR, Revision 4 between US-APWR DCD, Revisions 3 and 4, Luminant would need to identify all changes made since the issuance of US-APWR DCD, Revision 3, and revise the COLA FSAR to account for any changes that have not yet been incorporated into US-APWR DCD, Revision 4. Additionally, the NRC reviewers would need to review US-APWR DCD, Revision 3, identify all committed changes to the COLA FSAR, and review all Updated Tracking Reports in order to understand how COLA Revision 4 is linked to the latest US-APWR DCD revision.

Environmental Impacts of the Proposed Action

The NRC has completed its evaluation of the proposed action and concludes that there are no environmental impacts associated with the proposed exemption. The proposed exemption is solely administrative in nature in that it pertains to the schedule for submittal to the NRC of revisions to a COL application under 10 CFR Part 52.

The proposed action will not increase the probability or consequences of accidents. No changes are being made in the types of effluents that may be released offsite. There is no increase in the amount of any effluent released offsite. There is no increase in occupational or public radiation exposure. Therefore, there are no radiological environmental impacts associated with the proposed action.

With regard to potential non-radiological impacts, the proposed action does not have any foreseeable impacts to land, air, or water resources, including impacts to biota. In addition, there are also no known socioeconomic or environmental justice impacts associated with the proposed action. Therefore, there are no non-radiological environmental impacts associated with the proposed action. Accordingly, the NRC concludes that there are no environmental impacts associated with the proposed action.

Environmental Impacts of the Alternatives to the Proposed Action

As an alternative to the proposed action, the NRC staff considered denial of the proposed action (i.e., the “no-action” alternative). Denial of the application would result in no change in current environmental impacts. Therefore, the environmental impacts of the proposed action and the alternative action are similar.

Alternative Use of Resources

The proposed action does not involve the use of any different resources than those previously considered in NUREG-1943, “Final Environmental Impact Statement for Combined Licenses (COLs) for Comanche Peak Nuclear Power Plant, Units 3 and 4,” dated May 13, 2011.

Agencies and Persons Consulted

On March 11, 2013, the NRC staff consulted with an official from the Texas Department of State Health Services (DSHS), Radiation Inspection Branch regarding the environmental impact of the proposed action. The representative from the Texas DSHS had no comments.

Finding of No Significant Impact

On the basis of the environmental assessment, the NRC concludes that the proposed action will not have an effect on the quality of the human environment. Accordingly, the NRC has determined not to prepare an environmental impact statement for the proposed action.

For further details with respect to the proposed action, see Luminant's letter dated January 28, 2013. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or via email at pdr.resource@nrc.gov.

Dated at Rockville, Maryland, this 12th day of April 2013.
For the Nuclear Regulatory Commission.
Stephen R. Monarque,
Senior Project Manager, Licensing Branch 2, Division of New Reactor Licensing, Office of New Reactors.

[FR Doc. 2013-10256 Filed 4-30-13; 8:45 am]

BILLING CODE 7590-01-P